NUCLEAR REGULATORY COMMISSION

Sunshine Federal Register Notice

Date: Weeks of February 18, 25, March 3, 10, 17, 24, 2008.

Place: Commissioners' Conference Room, 11555 Rockville Pike, Rockville, Maryland.

Status: Public and Closed.

Matters to be Considered:

Week of February 18, 2008

Tuesday, February 19, 2008

10:30 a.m. Meeting with the National Academies Radiation Source Use and Replacement Study Committee (Closed—Ex. 1).

Wednesday, February 20, 2008

9:30 a.m. Periodic Meeting on New Reactor Issues, Part 1 (Public Meeting) (Contact: Donna Williams, 301-415-1322).

This meeting will be Web cast live at the Web address— http://www.nrc.gov.

1:25 p.m. Affirmation Session (Public Meeting) (Tentative). a. Final Rule—10 CFR Part 73 “Safeguards Information Protection Requirements” (RIN 3150-AH57) (Tentative).

This meeting will be Web cast live at the Web address— http://www.nrc.gov.

1:30 p.m. Periodic Meeting on New Reactor Issues, Part 2 (Public Meeting) (Contact: Donna Williams, 301-415-1322).

This meeting will be Web cast live at the Web address— http://www.nrc.gov.

Week of February 25, 2008—Tentative

There are no meetings scheduled for the Week of February 25, 2008.

Week of March 3, 2008—Tentative

There are no meetings scheduled for the Week of March 3, 2008.

Week of March 10, 2008—Tentative

There are no meetings scheduled for the Week of March 10, 2008.

Week of March 17, 2008—Tentative

Tuesday, March 18, 2008

9:30 a.m. Briefing by Independent External Panel to Identify Vulnerabilities in the U.S. NRC's Materials Licensing Program (Public Meeting) (Contact: Aaron T. McCraw, 301-415-1277).

This meeting will be Web cast live at the Web address— http://www.nrc.gov.

Week of March 24, 2008—Tentative

There are no meetings scheduled for the Week of March 24, 2008.

* * * * *

* The schedule for Commission meetings is subject to change on short notice. To verify the status of meetings, call (recording)—(301) 415-1292. Contact person for more information: Michelle Schroll, (301) 415-1662.

* * * * *

Additional Information

The Discussion of Security Issues (Closed—Ex. 1) scheduled for Monday, February 11, 2008, was cancelled.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: February 14, 2008.
R. Michelle Schroll,
Office of the Secretary.

[FR Doc. 08-780 Filed 2-15-08; 11:18 am]

BILLING CODE 7590-01-P